DEPARTMENT OF HEALTH AND HUMAN SERVICES

Food and Drug Administration

21 CFR Part 558

[Docket No. FDA-2010-N-0155]

RIN 0910-AG95

Veterinary Feed Directive; Correction

AGENCY: Food and Drug Administration, HHS.

ACTION: Final rule; correction.

SUMMARY: The Food and Drug Administration (FDA) is correcting a final rule entitled “Veterinary Feed Directive” that appeared in the Federal Register of June 3, 2015 (80 FR 31708). The rule amended FDA's animal drug regulations regarding veterinary feed directive (VFD) drugs. The document published with typographical and formatting errors. This document corrects those errors.

DATES: Effective: October 1, 2015.

FOR FURTHER INFORMATION CONTACT: Sharon Benz, Center for Veterinary Medicine (HFV-220), Food and Drug Administration, 7519 Standish Pl., Rockville, MD 20855, 240-402-5939, email: Sharon.Benz@fda.hhs.gov.

SUPPLEMENTARY INFORMATION: In FR Doc. 2015-13393, appearing on page 31708 in the Federal Register of Wednesday, June 3, 2015, the following corrections are made:

§ 558.6 [Corrected]

1. On page 31734, in the second column, in § 558.6 Veterinary feed directive drugs, in paragraph (b)(5), remove “(b)(2)(vi),” and add in its place “(b)(3)(vi),”.

2. On page 31734, in the third column, in § 558.6 Veterinary feed directive drugs, the introductory text of paragraph (c) “Responsibilities of any person who distributes an animal feed containing a VFD drug or a combination VFD drug:” is corrected as a paragraph heading to read “Responsibilities of any person who distributes an animal feed containing a VFD drug or a combination VFD drug.”

Dated: June 18, 2015.
Leslie Kux,
Associate Commissioner for Policy.

[FR Doc. 2015-15388 Filed 6-22-15; 8:45 am]

BILLING CODE 4164-01-P